DEPARTMENT OF DEFENSE

Office of the Secretary

[Docket ID: DOD-2026-OS-0397]

Proposed Collection; Comment Request

AGENCY: Office of the Under Secretary of Defense for Personnel and Readiness, (OUSD(P&R)), Department of Defense (DoD).

ACTION: 60-Day information collection notice.

SUMMARY: In compliance with the Paperwork Reduction Act of 1995, the OUSD(P&R), announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by April 27, 2026.

ADDRESSES: You may submit comments, identified by docket number and title, by any of the following methods:

Federal eRulemaking Portal: http://www.regulations.gov. Follow the instructions for submitting comments.

Mail: Department of War, Office of the Director of Administration and Management, Privacy, Civil Liberties, and Transparency Directorate, Regulatory Division, 4800 Mark Center Drive, Mailbox #24, Suite 05F16, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Military Community Support Programs, 4800 Mark Center Drive, Suite 14E08, Alexandria, VA 22350, Erika Slaton, (571)372-5417.

SUPPLEMENTARY INFORMATION: Title; Associated Form; and OMB Number: Pure Power; OMB Control Number 0704-MFPP.

Needs and Uses: This information collection is necessary to better assist Military and Family Life Counselors in addressing the unique social, emotional and behavioral needs of military-connected youth, directly aligning with the administration's focus on service member readiness, retention, and optimized quality of life for their families.

Affected Public: Individuals or households.

Annual Burden Hours: 72.5.

Number of Respondents: 136.

Responses per Respondent: 16.

Annual Responses: 2176.

Average Burden per Response: 2 minutes.

Frequency: On Occasion.

Dated: February 23, 2026.
Stephanie J. Bost,
Alternate OSD Federal Register Liaison Officer, Department of Defense.

[FR Doc. 2026-03733 Filed 2-24-26; 8:45 am]

BILLING CODE 6001-FR-P